DEPARTMENT OF COMMERCE

National Oceanic and Atmospheric Administration

[RTID 0648-XE840]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's Tilefish Monitoring Committee will hold a public webinar meeting.

DATES: The meeting will be held on Tuesday, May 20, 2025, from 9:30 a.m. until 12 p.m. For agenda details, see SUPPLEMENTARY INFORMATION.

ADDRESSES: The meeting will be held via webinar. Connection information, agenda items, and any additional information will be posted at www.mafmc.org/council-events prior to the meeting.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Tilefish Monitoring Committee will meet via webinar to discuss management measures for both golden and blueline tilefish. The objectives of this meeting are for the Monitoring Committee to: (1) Review recent stock assessment information/data update, fishery performance, and recommendations from the Advisory Panel, Scientific and Statistical Committee, and staff; (2) Recommend commercial and recreational annual catch limits, annual catch targets, and total allowable landing limits/quotas for blueline tilefish for 2026-2028 and review previously set commercial and recreational annual catch limits, annual catch targets, and total allowable landing limits/quotas for golden tilefish for 2026; and (3) set commercial and recreational management measures for blueline tilefish and review commercial and recreational management measures for golden tilefish and recommend changes, if needed.

Special Accommodations

The meeting is physically accessible to people with disabilities. Requests for sign language interpretation or other auxiliary aid should be directed to Shelley Spedden, (302) 526-5251, at least 5 days prior to the meeting date.

Authority: 16 U.S.C. 1801 et seq.

Dated: April 22, 2025.
Rey Israel Marquez,
Acting Deputy Director, Office of Sustainable Fisheries, National Marine Fisheries Service.

[FR Doc. 2025-07193 Filed 4-24-25; 8:45 am]

BILLING CODE 3510-22-P